DEPARTMENT OF JUSTICE

Drug Enforcement Administration

Importer of Controlled Substances; Notice of Registration; United States Pharmacopeial Convention

By Notice dated July 2, 2012, and published in the Federal Register on July 11, 2012, 77 FR 40911, United States Pharmacopeial Convention, 12601 Twinbrook Parkway, Rockville, Maryland 20852, made application by renewal to the Drug Enforcement Administration (DEA) to be registered as an importer of the following basic classes of controlled substances:

Drug | Schedule
Cathinone (1235) | I
Methaqualone (2565) | I
Lysergic acid diethylamide (7315) | I
Marihuana (7360) | I
Tetrahydrocannabinols (7370) | I
4-Methyl-2,5-dimethoxyamphetamine (7395) | I
3,4-Methylenedioxyamphetamine (7400) | I
Codeine-N-oxide (9053) | I
Heroin (9200) | I
Morphine-N-oxide (9307) | I
Amphetamine (1100) | II
Methamphetamine (1105) | II
Phenmetrazine (1631) | II
Methylphenidate (1724) | II
Amobarbital (2125) | II
Pentobarbital (2270) | II
Secobarbital (2315) | II
Glutethimide (2550) | II
Phencyclidine (7471) | II
4-Anilino-N-phenethyl-4-piperidine (8333) | II
Phenylacetone (8501) | II
Alphaprodine (9010) | II
Anileridine (9020) | II
Cocaine (9041) | II
Codeine (9050) | II
Dihydrocodeine (9120) | II
Oxycodone (9143) | II
Hydromorphone (9150) | II
Diphenoxylate (9170) | II
Hydrocodone (9193) | II
Levorphanol (9220) | II
Meperidine (9230) | II
Methadone (9250) | II
Dextropropoxyphene, bulk (non-dosage forms) (9273) | II
Morphine (9300) | II
Thebaine (9333) | II
Oxymorphone (9652) | II
Alfentanil (9737) | II
Sufentanil (9740) | II

The company plans to import reference standards for sale to researchers and analytical labs.

No comments or objections have been received. DEA has considered the factors in 21 U.S.C. 823(a) and 952(a), and determined that the registration of United States Pharmacopeial Convention to import the basic classes of controlled substances is consistent with the public interest and with United States obligations under international treaties, conventions, or protocols in effect on May 1, 1971.

DEA has investigated United States Pharmacopeial Convention to ensure that the company's registration is consistent with the public interest. The investigation has included inspection, and testing of the company's physical security systems, verification of the company's compliance with state and local laws, and a review of the company's background and history.

Therefore, pursuant to 21 U.S.C. 952(a) and 958(a), and in accordance with 21 CFR 1301.34, the above named company is granted registration as an importer of the basic classes of controlled substances listed.

Dated: September 20, 2012.
Joseph T. Rannazzisi,
Deputy Assistant Administrator, Office of Diversion Control, Drug Enforcement Administration.

[FR Doc. 2012-24192 Filed 10-1-12; 8:45 am]

BILLING CODE 4410-09-P